DEPARTMENT OF HEALTH AND HUMAN SERVICES

Health Resources and Services Administration

Advisory Committee on Heritable Disorders and Genetic Diseases in Newborns and Children; Notice of Meeting

In accordance with section 10(a)(2) of the Federal Advisory Committee Act (Pub. L. 92-463), notice is hereby given of the following meeting:

Name: Advisory Committee on Heritable Disorders and Genetic Diseases in Newborns and Children (ACHDGDNC).

Dates and Times: July 21, 2005, 9 a.m. to 5 p.m., and July 22, 2005, 9 a.m. to 3 p.m.

Place: Ronald Reagan Building and International Trade Center, Rotunda Room, 1300 Pennsylvania Avenue, NW., Washington, DC 20004.

Status: The meeting will be open to the public with attendance limited to space availability.

Purpose: The Advisory Committee provides advice and recommendations concerning the grants and projects authorized under the Heritable Disorders Program and technical information to develop policies and priorities for this program that will enhance the ability of the State and local health agencies to provide for newborn and child screening, counseling and health care services for newborns and children having or at risk for heritable disorders. Specifically, the Advisory Committee shall advise and guide the Secretary regarding the most appropriate application of universal newborn screening tests, technologies, policies, guidelines, and programs for effectively reducing morbidity and mortality in newborns and children having or at risk for heritable disorders.

Agenda: Presentations and discussions will include: an update on the American College of Medical Genetics report; the role of evidence and other factors in decisionmaking; the status of newborn screening in States; the newborn screening policy of the American College of Obstetrics and Gynecology; and reports from the Subcommittees on Education and Training, Treatment and Follow-up, and Laboratory Standards and Procedures.

Proposed agenda items are subject to change as priorities indicate.

Public Comments: Time will be provided each day for public comment. Written comments should be submitted no later than July 14, 2005. Individuals who wish to provide public comment or who plan to attend the meeting and need special assistance, such as sign language interpretation or other reasonable accommodations, should notify the ACHDGDNC Executive Secretary, Michele A. Lloyd-Puryear, M.D., Ph.D., Maternal and Child Health Bureau, Health Resources and Services Administration, Room 18A-19, Parklawn Building, 5600 Fishers Lane, Rockville, Maryland 20857, Telephone (301) 443-1080.

For Further Information Contact: Anyone interested in obtaining a roster of members or other relevant information should write or contact Jill Shuger, Maternal and Child Health Bureau, Health Resources and Services Administration, Room 18A-19, Parklawn Building, 5600 Fishers Lane, Rockville, Maryland 20857, Telephone (301) 443-1080. Information on the Advisory Committee is available at http://mchb.hrsa.gov/programs/genetics/committee.

Dated: June 16, 2005.
Tina M. Cheatham,
Director, Division of Policy Review and Coordination.

[FR Doc. 05-12233 Filed 6-21-05; 8:45 am]

BILLING CODE 4165-15-P